SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before July 24, 2023.

ADDRESSES: Send all comments to Paul Kirwin, Chief, Supervised Lender Oversight Division, Office of Credit Risk Management, Small Business Administration, Washington, DC 20416.

FOR FURTHER INFORMATION CONTACT: Paul Kirwin, Chief, Supervised Lender Oversight Division, Office of Credit Risk Management, paul.kirwin@sba.gov, 202-205-7261, or Curtis B. Rich, Agency Clearance Officer, 202-205-7030, curtis.rich@sba.gov.

SUPPLEMENTARY INFORMATION: SBA regulations at 13 CFR 120.830 requires CDCs to submit an annual report which contains financial statements, operational and management information. This information is used by SBA's Office of Credit Risk Managent, Office of Financial Assistance, and district offices to obtain information from the CDCs that used to evaluate whether CDC's are operating according to the status, regulations and policies governing the CDC loan program (504 program).

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0074.

Title: Certified Development Company (CDC) Annual Report Guide.

Description of Respondents: Certified Development Companies.

Form Number: SBA Form 1253.

Total Estimated Annual Responses: 201.

Total Estimated Annual Hour Burden: 5,628.

Curtis B. Rich,
Agency Clearance Officer.

[FR Doc. 2023-10922 Filed 5-22-23; 8:45 am]

BILLING CODE 8026-09-P